ENVIRONMENTAL PROTECTION AGENCY

[FRL-8319-2]

Water Security Initiative: Preliminary Notice of a Request for Applications for Contamination Warning System Pilots

AGENCY: Environmental Protection Agency (EPA).

ACTION: Notice.

SUMMARY: The U.S. Environmental Protection Agency (EPA) is providing preliminary notice of its intention to solicit competitive applications for cooperative agreements to support contamination warning system demonstration pilots. These pilots will be part of the Agency's Water Security (WS) initiative (formerly WaterSentinel), which addresses the risk of contamination of drinking water distribution systems. Local governments or institutions (either public or private nonprofit organizations) that operate community water systems serving at least 750,000 people will be eligible to compete for these cooperative agreements. The purpose of this notice is to alert potential applicants to this future opportunity.

DATES: EPA intends to issue the Request for Applications (RFA) for contamination warning system cooperative agreements in June 2007.

ADDRESSES: For further information, contact Dan Schmelling, Water Security Division, Office of Ground Water and Drinking Water (MC 4601M), Environmental Protection Agency, 1200 Pennsylvania Ave., NW., Washington, DC 20460; telephone number (202) 564-5281; fax number: (202) 564-3753; e-mail address: schmelling.dan@epa.gov.

SUPPLEMENTARY INFORMATION: The WS initiative is an EPA program that includes piloting contamination warning systems at drinking water utilities. This initiative is responsive to Homeland Security Presidential Directive 9, under which the Agency must “develop robust, comprehensive, and fully coordinated surveillance and monitoring systems * * * for * * * water quality that provides early detection and awareness of disease, pest, or poisonous agents.” The purpose of these pilots is to demonstrate warning systems that achieve timely detection and appropriate response to drinking water contamination incidents.

Under the WS initiative, EPA anticipates awarding four cooperative agreements for contamination warning system demonstration pilots, with individual award amounts between $3 and $12 million. A minimum 20 percent cost-share, which may include in-kind services, would be required. Contamination warning systems must address five monitoring and surveillance components, (1) online water quality monitoring, (2) contaminant sampling and analysis, (3) enhanced security monitoring, (4) consumer complaint surveillance, and (5) public health surveillance, along with a consequence management plan.

EPA has developed a document, Water Security Initiative: Interim Guidance on Planning for Contamination Warning System Deployment, to assist utilities with demonstrating these components. It is available at http://cfpub.epa.gov/safewater/watersecurity/initiative.cfm. EPA encourages utilities that may be interested in the upcoming RFA to review this document. When issued, the RFA will be available at this same Web address and may also be viewed through http://www.grants.gov.

Funding may be used by recipients to acquire services and fund contracts or to fund partnerships through subgrants, provided recipients follow applicable contracting and subgrants procedures. Please note that recipients may not award sole source contracts to consulting, engineering or other firms assisting applicants with the proposal based on the firm's role in preparing the proposal.

Dated: May 21, 2007.
Cynthia C. Dougherty,
Director, Office of Ground Water and Drinking Water.

[FR Doc. E7-10241 Filed 5-25-07; 8:45 am]

BILLING CODE 6560-50-P